DEPARTMENT OF HEALTH AND HUMAN SERVICES

Food and Drug Administration

Drug Manufacturing Inspections; Public Workshops; Correction

AGENCY: Food and Drug Administration, HHS.

ACTION: Notice of public workshops; correction.

SUMMARY: The Food and Drug Administration (FDA) is correcting a notice that appeared in the Federal Register of March 29, 2002 (67 FR 15210). The document announced a series of workshops to discuss the application of a systems-based approach to drug manufacturing inspections. The document was published with an inadvertent error. This document corrects that error.

FOR FURTHER INFORMATION CONTACT: Doris B. Tucker, Office of Policy (HF-27), Food and Drug Administration, 5600 Fishers Lane, Rockville, MD 20857.

SUPPLEMENTARY INFORMATION: In FR Doc. 02-7579, appearing on page 15210 in the Federal Register of Friday, March 29, 2002, the following correction is made:

1. On page 15211, in the first column, in the fifth line from the bottom and also in the last line of the document “http:/www.fda.gov.cder/calendar” is corrected to read “http:/www.fda.gov/cder/workshop.htm.”

Dated: April 5, 2002.
Margaret M. Dotzel,
Associate Commissioner for Policy.

[FR Doc. 02-8839 Filed 4-11-02; 8:45 am]

BILLING CODE 4160-01-S